DEPARTMENT OF DEFENSE

Office of the Secretary

Threat Reduction Advisory Committee; Notice of Federal Advisory Committee Meeting

AGENCY: Office of the Under Secretary of Defense (Acquisition, Technology and Logistics), DoD.

ACTION: Federal Advisory Committee meeting notice.

SUMMARY: The Department of Defense announces the following Federal advisory committee meeting of the Threat Reduction Advisory Committee (“the Committee”). This meeting will be closed to the public.

DATES: Tuesday, January 28, 2014, from 1:00 p.m. to 4:00 p.m. and Wednesday, January 29, 2014, from, 8:30 a.m. to 4:30 p.m.

ADDRESSES: National Geospatial-Intelligence Agency, Springfield, Virginia on January 28 and CENTRA Technology Inc., Arlington, Virginia on January 29.

FOR FURTHER INFORMATION CONTACT: Mr. William Hostyn, DoD, Defense Threat Reduction Agency/J2/5/8R-AC, 8725 John J. Kingman Road, MS 6201, Fort Belvoir, VA 22060-6201. Email: william.hostyn@dtra.mil. Phone: (703) 767-4453. Fax: (703) 767-4206.

SUPPLEMENTARY INFORMATION: Purpose of Meeting: This meeting is being held under the provisions of the Federal Advisory Committee Act of 1972 (FACA) (5 U.S.C., Appendix, as amended),the Government in the Sunshine Act of 1976 (5 U.S.C. 552b, as amended), and 41 CFR 102-3.150. The Committee will obtain, review and evaluate classified information related to the Committee's mission to advise on technology security, Combating Weapons of Mass Destruction (C-WMD), counter terrorism and counter proliferation.

Agenda: Beginning at 1:00 p.m., January 28, and through the end of the meeting on January 29, the committee will receive a classified brief from the Commander of U.S. Strategic Command (USSTRATCOM), as the Commander of USSTRATCOM, Admiral Haney will review his CWMD priorities and discuss what issues the TRAC may be able to review and provide advice or recommendations. A classified C-WMD focused intelligence update will follow, where representatives from the Defense Intelligence Agency (DIA)/CWMD Division will provide the latest intelligence assessments for the Levant region and other regions of concern. The Committee will deliberate on the Cooperative Threat Reduction, in a classified setting, on initial recommendations to commission a study on metrics through a Systems Analysis FFRDC, ensure the development of vignettes to tell the story of the accomplishments of the CTR program, and that DoD must find a more productive method of engaging the COCOMs. Next, a classified deliberation on WMD-Elimination, where the Committee will review their progress in reviewing DoD's enduring counter-proliferation and weapons of mass destruction elimination missions. Potential recommendations for deliberation will include a discussion regarding the organization of the Standing Joint Force Headquarters for Elimination. Following that, a classified deliberation will focus on Strategic CWMD Indications & Warnings. The Committee will discuss their review of the Global Combatting WMD Awareness System (GCAS) and discuss if GCAS can be developed into a relevant near term capability to support operational needs of the Combatant Commands. Additional discussion will include the need for further work to define what a strategic I&W capability should consist of and what role or gap the GCAS should fill. The following discussion will focus on Securing Special Nuclear Materials, at the classified level. This topic is a new area of review, therefore, the Committee will discuss the draft Terms of Reference that has been developed in an effort to achieve consensus on the direction of this focus area. The session will conclude with a classified discussion on the way ahead.

Meeting Accessibility: Pursuant to 5 U.S.C. 552b, and 41 CFR 102-3.155, the Department of Defense has determined that the meeting shall be closed to the public. The Under Secretary of Defense for Acquisition, Technology and Logistics, in consultation with the DoD FACA Attorney, has determined in writing that the public interest requires all sessions of this meeting be closed to the public because the discussions will be concerned with classified information and matters covered by 5 U.S.C. 552b(c)(1). Such classified matters are inextricably intertwined with the unclassified material and cannot reasonably be segregated into separate discussions without disclosing secret material.

Committee's Designated Federal Officer or Point of Contact: Mr. William Hostyn, DoD, Defense Threat Reduction Agency/J/2/5/8R-ACP, 8725 John J. Kingman Road, MS 6201, Fort Belvoir, VA 22060-6201. Email: william.hostyn@dtra.mil. Phone: (703) 767-4453. Fax: (703) 767-4206.

Written Statements: Pursuant to 41 CFR 102-3.105(j) and 102-3.140 and section 10(a)(3) of FACA, the public or interested organizations may submit written statements to the membership of the Committee at any time or in response to the stated agenda of a planned meeting. Written statements should be submitted to the Committee's Designated Federal Officer. The Designated Federal Officer's contact information is listed in this notice or it can be obtained from the General Services Administration's FACA Database— http://www.facadatabase.gov/committee/committee.aspx?cid=1663&aid=41.

Written statements that do not pertain to a scheduled meeting of the Committee may be submitted at any time. However, if individual comments pertain to a specific topic being discussed at a planned meeting, then these statements must be submitted no later than five business days prior to the meeting in question. The Designated Federal Officer will review all submitted written statements and provide copies to all committee members.

Dated: December 18, 2013.
Aaron Siegel,
Alternate OSD Federal Register Liaison Officer, Department of Defense.

[FR Doc. 2013-30550 Filed 12-23-13; 8:45 am]

BILLING CODE 5001-06-P